DEPARTMENT OF JUSTICE

[OMB Number 1103-0098]

Agency Information Collection Activities; Proposed eCollection eComments Requested; Revision of a Previously Approved Collection; COPS Application Package

AGENCY: Community Oriented Policing Services, Department of Justice.

ACTION: 60-Day notice.

SUMMARY: The Office of Community Oriented Policing Services, (COPS), Department of Justice (DOJ), will be submitting the following information collection request to the Office of Management and Budget (OMB) for review and approval in accordance with the Paperwork Reduction Act of 1995.

DATES: Comments are encouraged and will be accepted for 60 days until April 15, 2024.

FOR FURTHER INFORMATION CONTACT: If you have additional comments especially on the estimated public burden or associated response time, suggestions, or need a copy of the proposed information collection instrument with instructions or additional information, please contact Dave Neely, Department of Justice, Office of Community Oriented Policing Services, 145 N St NE, Washington, DC 20530, telephone: (202) 514-8553 email: david.neely2@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Under the Violent Crime and Control Act of 1994, the U.S. Department of Justice would request grant application information from state, local and tribal law enforcement agencies to properly award grant funds to advance public safety through community policing.

Overview of This Information Collection

1. Type of Information Collection: Revision of a currently approved collection.

2. Title of the Form/Collection: COPS Application Package.

3. The agency form number, if any, and the applicable component of the Department sponsoring the collection: Application Attachment to SF-424, COPS. DOJ.

4. Affected public who will be asked or required to respond, as well as the obligation to respond: Affected Public: Law Enforcement Agencies. The obligation to respond is required to obtain or retain a benefit.

5. An estimate of the total number of respondents and the amount of time estimated for an average respondent to respond: The estimated total number of respondents is 5,000. The time per response is 11 hours to review and complete the application.

6. An estimate of the total annual burden (in hours) associated with the collection: An estimated 55,000 total annual burden hours are associated with this collection.

7. An estimate of the total annual cost burden associated with the collection, if applicable: $0.

Activity | Number of respondents | Frequency | Total annual responses | Time per response | Total annual burden (hours)
COPS Application Package | 5,000 | 1/annually | 5,000 | 11 | 55,000

If additional information is required contact: Darwin Arceo, Department Clearance Officer, United States Department of Justice, Justice Management Division, Policy and Planning Staff, Two Constitution Square, 145 N Street NE, 4W-218, Washington, DC.

Dated: February 7, 2024.
Darwin Arceo,
Department Clearance Officer for PRA, U.S. Department of Justice.

[FR Doc. 2024-02846 Filed 2-12-24; 8:45 am]

BILLING CODE 4410-AT-P